DEPARTMENT OF DEFENSE

Department of the Air Force

[Docket ID USAF-2008-0036]

Proposed Collection; Comment Request

AGENCY: United States Air Force Logistics Transformation Office (HQ USAF/A4IT), DoD.

ACTION: Notice.

In compliance with Section 3506(c)(2)(A) of the Paperwork Reduction Act of 1995, the United States Air Force Logistics Transformation Office announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 26, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to United States Air Force Logistics Transformation Office (HQ USAF/A4IT [HQ 754ELSG/EC]), Attn: [Ms. Dorothy Ander], 4375 Chidlaw Rd., Area A, Bldg 262, Room S008, Post 1Q, WPAFB, OH 45433-5006, or call HQ USAF/A4IT, Logistics Transformation Office, at 937-904-0793.

Title; Associated Form; and OMB Number: Expeditionary Combat Support System (ECSS) Readiness Survey; OMB Control Number 0701-TBD.

Needs and Uses: The information collection requirement is necessary to measure the knowledge and acceptance of the new system by potential users and their managers. The results will be used to gauge the effectiveness of program activities and identify necessary course corrections.

Affected Public: Business or other for profit.

Annual Burden Hours: 924 hours.

Number of Respondents: 2767.

Responses per Respondent: 2.

Average Burden per Response: 10 minutes.

Frequency: Annually.

SUPPLEMENTARY INFORMATION:

Summary of Information Collection

Respondents are U.S. Air Force contractors that use, provide information to, or use information from any of the current U.S. Air Force logistics computer systems; along with all other government personnel that use these systems. Responders will voluntarily complete a survey that asks about their knowledge and acceptance of the new system. The results will be used to gauge the effectiveness of program activities and identify necessary course corrections to ensure all personnel have received the information and education needed to transition to the new systems, policies, processes, and procedures.

Dated: November 18, 2008.
Patricia L. Toppings,
OSD Federal Register Liaison Officer, Department of Defense.

[FR Doc. E8-27949 Filed 11-24-08; 8:45 am]

BILLING CODE 5001-06-P